DEPARTMENT OF COMMERCE

International Trade Administration

[A-570-828]

Silicomanganese From the People's Republic of China: Notice of Final Results of Antidumping Duty Administrative Review

AGENCY: Import Administration, International Trade Administration, Department of Commerce .

ACTION: Notice of Final Results of Antidumping Duty Administrative Review.

SUMMARY: On November 8, 1999, the Department of Commerce (“the Department”) published the preliminary results of administrative review of the antidumping duty order on silicomanganese from the People's Republic of China (“PRC”). This review covers two manufacturers/exporters, Guangxi Bayi Ferroalloy Works (“Bayi”), and Sichuan Emei Ferroalloy Import and Export Co., Ltd. (“Emei”). The period of review (“POR”) is December 1, 1997 through November 30, 1998.

The final weighted-average dumping margins for the reviewed firms are listed below in the section entitled “Final Results of Review.” The final margins differ from those published in the preliminary results due to changes that we made since the preliminary results. For details regarding these changes, see the section of the notice entitled “Changes Since the Preliminary Results.”

EFFECTIVE DATE: May 18, 2000.

FOR FURTHER INFORMATION CONTACT: Timothy Finn or Howard Smith, AD/CVD Enforcement Group II, Office IV, Import Administration, International Trade Administration, U.S. Department of Commerce, 14th Street and Constitution Avenue, NW, Washington, DC 20230; telephone (202) 482-0065 or (202) 482-5193 respectively.

SUPPLEMENTARY INFORMATION:

Applicable Statute

Unless otherwise indicated, all citations to the statute are references to the provisions effective January 1, 1995, the effective date of the amendments made to the Tariff Act of 1930 (“the Act”) by the Uruguay Rounds Agreements Act (“URAA”). In addition, unless otherwise indicated, all citations to the Department's regulations are to the current regulations at 19 CFR part 351 (1999).

Background

Since the publication of the preliminary results, the following events have occurred. On November 29, 1999 the respondents and the petitioner (Eramet Marietta Inc. (“Eramet”)) submitted publicly available information and comments regarding factor valuation. On December 8, 1999 the respondents filed rebuttal comments regarding the petitioner's November 29, 1999 factor value submission. The Department issued supplemental questionnaires to the respondents on December 16, 1999, and received responses to those questionnaires on January 7, 2000. On January 11, 2000, the Department published in the Federal Register a notice extending the due date for the final results until May 6, 2000 (65 FR 1597). In January 2000, the Department conducted verifications of Bayi and Emei. Public versions of our verification reports, dated March 1, 2000, are on file in the Central Records Unit (“CRU”), room B-099 of the main Department of Commerce building, under the appropriate case number. In response to the Department's invitation to comment on the preliminary results of review, the petitioner and the respondents filed case and rebuttal briefs in March 2000. The Department held a public hearing regarding this review on April 3, 2000.

The Department has conducted this administrative review in accordance with section 751 of the Act.

Scope of the Review

The merchandise covered by this order is silicomanganese. Silicomanganese, which is sometimes called ferrosilicon manganese, is a ferroalloy composed principally of manganese, silicon, and iron, and normally containing much smaller proportions of minor elements, such as carbon, phosphorous and sulfur. Silicomanganese generally contains by weight not less than 4 percent iron, more than 30 percent manganese, more than 8 percent silicon and not more than 3 percent phosphorous. All compositions, forms and sizes of silicomanganese are included within the scope of this investigation, including silicomanganese slag, fines and briquettes. Silicomanganese is used primarily in steel production as a source of both silicon and manganese. This investigation covers all silicomanganese, regardless of its tariff classification. Most silicomanganese is currently classifiable under subheading 7202.30.0000 of the Harmonized Tariff Schedule of the United States (“HTS”). Some silicomanganese may also currently be classifiable under HTS subheading 7202.99.5040. Although the HTS subheadings are provided for convenience and customs purposes, our written description of the scope is dispositive.

Analysis of Comments Received

All issues raised in the case and rebuttal briefs by parties to this administrative review are addressed in the “Issues and Decision Memorandum” (“Decision Memorandum”) from Holly A. Kuga, Acting Deputy Assistant Secretary, Important Administration, to Troy H. Cribb, Acting Assistant Secretary for Import Administration, dated May 8, 2000, which is hereby adopted by this notice. A list of the issues which parties have raised and to which we have responded, all of which are in the Decision Memorandum, is attached to this notice as an Appendix. Parties can find a complete discussion of all issues raised in this review and the corresponding recommendations in this public memorandum which is on file in the Central Record Unit, room B-099 of the main Department of Commerce building. In addition a complete version of the Decision Memorandum can be accessed directly on the Web at www.ita.doc.gov/import_admin/records/frn. The paper copy and electronic version of the Decision Memorandum are identical in content.

Use of Facts Available

For a discussion of our use of facts available, see the “Facts Available” section of the Decision Memorandum.

Changes Since the Preliminary Results of Review

Based on the corrections presented at verification, the Department's verification findings, and our analysis of the petitioner's and the respondents' comments, we have made certain changes to the factors of production and surrogate values used to calculate the margins in the preliminary results. We have also corrected certain clerical errors in our margin calculations. The changes and corrections are discussed in the relevant sections of the Decision Memorandum. Further details regarding the changes and corrections can be found in the Decision Memorandum, surrogate value memorandum (see Surrogate Values Used for the Final Results of the 1997-1998 Administrative Review of Silicomanganese From the People's Republic of China) and company-specific analysis memoranda (see Analysis for the Final Results of the 1997-1998 Administrative Review of Silicomanganese From the People's Republic of China: Guangxi Bayi Ferroalloy and Analysis for the Final Results of the 1997-1998 Administrative Review of Silicomanganese From the People's Republic of China: Sichuan Emei Ferroalloy Import and Export Co., Ltd.), all of which are on file in room B-099 of the main Department of Commerce building.

Final Results of Review

We determine that the following percentage weighted-average margins exist for the period December 1, 1997 through November 30, 1998:

Manufacturer/Exporter | Margin (percent)
Guangxi Bayi Ferroalloy Works | 126.22
Sichuan Emei Ferroalloy Import and Export Co., Ltd | 182.97

The Department shall determine, and Customs shall assess, antidumping duties on all appropriate entries. In accordance with 19 CFR 351.212(b), we have calculated exporter/importer-specific assessment rates. We divided the total dumping margins for sales to a specific importer by the total units of subject merchandise sold to the importer in order to calculate a per-unit dollar assessment. The per-unit dollar amount will be assessed uniformly against each unit of subject merchandise that the importer entered during the POR.

Cash Deposit Requirements

The following deposit requirements will be effective upon publication of this notice of final results of administrative review for all shipments of silicomanganese from the PRC entered, or withdrawn from warehouse, for consumption on or after the date of publication, as provided by section 751(a)(1) of the Act: (1) The cash deposit rates for the reviewed companies will be the rates shown above; (2) for previously reviewed or investigated companies not listed above that have separate rates, the cash deposit rate will continue to be the company-specific rate published for the most recent period; (3) the cash deposit rate for all other PRC exporters will continue to be 150.00 percent; and (4) the cash-deposit rate for non-PRC exporters will be the rate applicable to the PRC supplier of that exporter.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APOs”) of their responsibility concerning the return or destruction of proprietary information disclosed under an APO in accordance with 19 CFR 351.305 or conversion to judicial protective order is hereby requested. Failure to comply with the regulations and terms of an APO is a violation which is subject to sanction.

We are issuing and publishing this determination and notice in accordance with sections section 751(a)(1) and 771(i) of the Act.

Dated: May 8, 2000.
Troy H. Cribb,
Acting Assistant Secretary for Import Administration.

Appendix—Issues in Decision Memorandum

Comments and Responses

I. Factor Valuation

II. Facts Available

III. Clerical Errors

IV. Miscellaneous Issues

1. Classifying Electrode Paste as a Direct Material or Part of Overhead

2. Allocating Costs Over Production Quantities That Include Fines

3. Reducing Normal Value for Sales of Silicomanganese Slag

4. Recalculating Emei's Electricity Consumption Based on Verification Findings

[FR Doc. 00-12581 Filed 5-17-00; 8:45 am]

BILLING CODE 3510-DS-P